MERIT SYSTEMS PROTECTION BOARD

Membership of the Merit Systems Protection Board's Senior Executive Service; Performance Review Board

AGENCY: Merit Systems Protection Board.

ACTION: Notice.

SUMMARY: Notice is hereby given of the members of the Performance Review Board.

Dates: May 15, 2009.

FOR FURTHER INFORMATION CONTACT: Marion Hines, Human Resources Director, Office of Financial and Administrative Management, Merit Systems Protection Board, 1615 M Street, NW., Washington, DC 20419.

SUPPLEMENTARY INFORMATION: The Merit Systems Protection Board is publishing the names of the new and current members of the Performance Review Board (PRB) as required by 5 U.S.C. 4314(c)(4). An-Ming “Tommy” Hwang, formerly a member of the PRB, will serve as Chair of the PRB. William L. Boulden and William D. Spencer will serve as new members. Gail T. Lovelace, formerly a member of the PRB, will serve as an advisory member.

Dated: May 11, 2009.
William D. Spencer,
Clerk of the Board.

[FR Doc. E9-11323 Filed 5-14-09; 8:45 am]

BILLING CODE 7400-01-P